DEPARTMENT OF ENERGY

Federal Energy Regulatory Commission

[Docket No. EL12-101-000]

New York Association of Public Power v. Niagara Mohawk Power Corporation, New York Independent System Operator, Inc.; Notice of Amendment to Complaint

Take notice that on September 26, 2012, New York Association of Public Power (Complainant) filed an amendment to its September 11, 2012, Complaint against Niagara Mohawk Power Corporation and New York Independent System Operator, Inc. (Respondents) adding an attachment that was inadvertently deleted from the filed version of the Complaint.

The Complainant certifies that copies of the complaint were served on the contacts for the Respondent as listed in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on October 9, 2012.

Dated: September 28, 2012.
Kimberly D. Bose,
Secretary.

[FR Doc. 2012-24570 Filed 10-4-12; 8:45 am]

BILLING CODE 6717-01-P